DEPARTMENT OF THE INTERIOR

National Park Service

[NPS-WASO-NRNHL-DTS#-38255; PPWOCRADI0, PCU00RP14.R50000]

National Register of Historic Places; Notification of Pending Nominations and Related Actions

AGENCY: National Park Service, Interior.

ACTION: Notice.

SUMMARY: The National Park Service is soliciting electronic comments on the significance of properties nominated before June 29, 2024, for listing or related actions in the National Register of Historic Places.

DATES: Comments should be submitted electronically by July 24, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 29, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

KANSAS

Ford County

Fort Dodge—Junior Officers' Quarters, (Santa Fe Trail MPS), 266 Custer Street, Fort Dodge, MP100010625

Neosho County

Sturdevant Hardware Building, 29-31 W Main, Chanute, SG100010601

Wabaunsee County

Pearl Opera House, (Theaters and Opera Houses of Kansas MPS), 601 Main Street, Alta Vista, MP100010620

MICHIGAN

Wayne County

United States Post Office Plymouth Station, 860 Penniman Avenue, Plymouth, SG100010627

MINNESOTA

Crow Wing County

Cuyuna Village Hall, 24945 Minnesota Avenue, Cuyuna, SG100010629

St. Louis County

United Protestant Church, 830 88th Avenue West, Duluth, SG100010635

NEW YORK

Albany County

Selfridge & Langford Building, 97-101 Central Avenue, Albany, SG100010630

Cattaraugus County

Nies Block, 63-87 Main Street, Salamanca, SG100010608

Erie County

Austin Street Police Athletic League (PAL) Center, (Black Rock Planning Neighborhood MPS), 348 Austin Street, Buffalo, MP100010612

Franklin County

Berkeley Square Historic District (Boundary Increase), Blocks roughly bounded by Broadway, Main, Olive, and Woodruff Sts., Saranac Lake vicinity, BC100010618

Genesee County

Oakfield High School, 1 North Pearl Street, Oakfield, SG100010613

Herkimer County

Dolgeville Universalist Church, 78 South Main St., Dolgeville, SG100010614

Monroe County

Wimbledon Road Historic District, 201-300 Wimbledon Road, Rochester vicinity, SG100010617

New York County

Audubon Park Historic District, Generally, Broadway, Riverside Drive, Riverside Drive West, West 155th, 156th, 157th, and West 158th Street, and Edward M. Morgan Place, New York, SG100010615

Onondaga County

National Casket Company Building, 719 East Genesee Street, Syracuse, SG100010632

Orange County

Black Walnut Island 2, Address Restricted, Pine Island vicinity, SG100010633

Rensselaer County

Neemes Foundry, 206 First Street, Troy, SG100010631

St. Lawrence County

Hale Cemetery, 3366 County Route 47, Norfolk, SG100010607

VIRGIN ISLANDS

St. Croix District

Kingshill Lutheran Church, 18-AA Upper Bethlehem, St. Croix, Frederiksted vicinity, SG100010640

Holy Cross Episcopal Church, 1 Estate Upper Love, Frederiksted vicinity, SG100010641

Sprat Hall Historic District, 29 Sprat Hall, Frederiksted vicinity, SG100010646

La Grange Historic District, Parcels 74, 75, 242, 40, 64 Estate La Grange, Frederiksted vicinity, SG100010647

St. John District, East End Schoolhouse: St. John US Virgin Islands, 6-K Hansen Bay, St. John vicinity, SG100010648

Benjamin Franklin School, 2 Estate Emmaus, Coral Bay, SG100010650

St. Thomas District

Barracks No. 2, (World War II Naval and Military Operations in the U.S. Virgin Islands, 1935-1950 MPS), 8189 Subbase Road, Charlotte Amalie vicinity, MP100010644

Evelyn E. Marcelli Elementary School, Haabets Gade 4, Charlotte Amalie vicinity, SG100010645

WEST VIRGINIA

Mercer County

Bluefield Green Book Historic District, (Green Book Sites in West Virginia MPS), 1039-1047 Wayne Street, Bluefield, MP100010606

WISCONSIN

Waupaca County

William H. Hatten Recreation Park, 801 Werner-Allen Road, New London, SG100010639

An owner objection received for the following resource(s):

MINNESOTA

Winona County

Holy Trinity School, 101 Broadway Street, Rollingstone, SG100010636

A request for removal has been made for the following resource(s):

MICHIGAN

Wayne County

Mellus Newspapers Building, 1661 Fort St., Lincoln Park, OT05000716

St. Thomas the Apostle Catholic Church and Rectory, 8363-8383 Townsend Ave., Detroit, OT89000785

An additional documentation has been received for the following resource(s):

NEW YORK

Franklin County

Berkeley Square Historic District (Additional Documentation), 30-84 Main St., 2-29 Broadway, Saranac Lake, AD88000114

New York County

Greenwich Village Historic District (Additional Documentation), Roughly bounded by W 13th St., St. Luke's Pl., University Pl., and Washington St., New York, AD79001604

TENNESSEE

Montgomery County

Rexinger, Samuel, House (Additional Documentation), 813 College Street, Clarksville, AD77001284

Smith-Hoffman House (Additional Documentation), 149 Plum Street, Clarksville, AD77001285

VIRGIN ISLANDS

St. Thomas District

Hassel Island (Additional Documentation), S of Charlotte Amalie in St. Thomas Harbor, Charlotte Amalie vicinity, AD76001862

Authority: Section 60.13 of 36 CFR part 60

Sherry A. Frear,
Chief, National Register of Historic Places/National Historic Landmarks Program.

[FR Doc. 2024-14994 Filed 7-8-24; 8:45 am]

BILLING CODE 4312-52-P